DEPARTMENT OF HEALTH AND HUMAN SERVICES

Administration for Children and Families

Proposed Information Collection Activity; Comment Request

Title: National Clearinghouse on Child Abuse and Neglect Information (CAN) and National Adoption Information Clearinghouse (NAIC) Customer Satisfaction Evaluation Plan.

Description: The National Clearinghouse on Child Abuse and Neglect Information (CAN) and the National Adoption Information Clearinghouse (NAIC), services of the Children's Bureau within ACF, were established in 1974 and 1986, respectively. Both are dedicated to the mission of connecting professionals and concerned citizens to information on programs, research, legislation, and statistics regarding the safety, permanency, and well-being of children and families.

The Clearinghouses' main functions are identifying information needs, locating and acquiring information, creating information, organizing and storing information, disseminating information, and facilitating information exchange among professionals and concerned citizens. A number of vehicles are employed to accomplish these activities, including, but not limited to, Web site hosting, discussions with customers, and dissemination of publications (both print and electronic).

The Clearinghouses' Customer Satisfaction Evaluation Plan was initiated in response to Executive Order 12862 issued on September 11, 1993. The order calls for putting customers first and striving for a customer-driven government that matches or exceeds the best service available in the private sector. To that end, the Clearinghouses' Evaluation Plan was designed to better understand customers' needs and measure success in meeting those needs by obtaining input and feedback directly from customers. This feedback will be used to improve the quality of Clearinghouse products and services, in turn allowing limited resources to be targeted to improve those components that have the most impact on customer satisfaction. Information will be collected using close-ended electronic, telephone, paper and pencil, and in-person administration methods.

In addition to the above quantitative component of the evaluation plan, focus groups will be conducted with CAN and NAIC customers on a yearly basis to supplement the customer satisfaction surveys with a qualitative component.

Respondents: General customers are those who interact with the Clearinghouses via Web, e-mail, and telephone. Targeted customers are those to which selected services are delivered, such as subscribers to Children's Bureau Express (an online digest), recipients of selected publications, and focus group participants.

Annual Burden Estimates
Instrument | Number of respondents | Number of responses per respondent | Average burden hours per response | Total burden hours
Core Survey plus one of the following modules: Professional/Student; Web Site; Marketing; Personal Customer | 1,498 | 11 items on average (core and module surveys vary between 10 and 12 responses) | .29 minutes | 80
Children's Bureau Express Survey | 1,000 | 12 items | .29 minutes | 58
Selected Publications Survey | Up to 250 annually (50 surveys per publication for 5 publications) | 9 items | .29 minutes | 11
Needs Assessment Focus Groups | 7 on average (between 5 and 9) per Focus Group | 4 focus groups per year | 60 minutes per Focus Group | 28
Estimated Total Annual Burden Hours |  |  |  | 177

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf. hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 15, 2005.
Robert Sargis,
Reports Clearance Officer.

[FR Doc. 05-16424 Filed 8-18-05; 8:45 am]

BILLING CODE 4184-01-M